DEPARTMENT OF HOMELAND SECURITY

Coast Guard

[Docket Number USCG-2009-0139; OMB Control Number: 1625-0043]

Information Collection Request to Office of Management and Budget

AGENCY: Coast Guard, DHS.

ACTION: Sixty-day notice requesting comments.

SUMMARY: In compliance with the Paperwork Reduction Act of 1995, the Coast Guard plans to submit an Information Collection Request (ICR) to the Office of Management and Budget (OMB), Office of Information and Regulatory Affairs (OIRA), requesting a revision to the following collection of information: 1625-0043, Ports and Waterways Safety Act—Title 33, Subchapter P. The Coast Guard invites comments as described below.

DATES: Comments must reach the Coast Guard on or before June 16, 2014.

ADDRESSES: You may submit comments identified by Coast Guard docket number [USCG-2009-0139] to the Docket Management Facility (DMF) at the U.S. Department of Transportation (DOT). To avoid duplicate submissions, please use only one of the following means:

(1) Online: http://www.regulations.gov.

(2) Mail: DMF (M-30), DOT, West Building Ground Floor, Room W12-140, 1200 New Jersey Avenue SE., Washington, DC 20590-0001.

(3) Hand delivery: Same as mail address above, between 9 a.m. and 5 p.m., Monday through Friday, except Federal holidays. The telephone number is 202-366-9329.

(4) Fax: 202-493-2251. To ensure your comments are received in a timely manner, mark the fax, to attention Desk Officer for the Coast Guard.

The DMF maintains the public docket for this Notice. Comments and material received from the public, as well as documents mentioned in this Notice as being available in the docket, will become part of the docket and will be available for inspection or copying at room W12-140 on the West Building Ground Floor, 1200 New Jersey Avenue SE., Washington, DC, between 9 a.m. and 5 p.m., Monday through Friday, except Federal holidays. You may also find the docket on the Internet at http://www.regulations.gov.

A copy of this ICR is available within this notice and through the docket on the Internet at http://www.regulations.gov. Additionally, copies are available from: COMMANDANT (CG-612), ATTN PAPERWORK REDUCTION ACT MANAGER, US COAST GUARD, 2703 MARTIN LUTHER KING JR AVE SE STOP 7710, WASHINGTON DC 20593-7710.

FOR FURTHER INFORMATION CONTACT: Contact Mr. Anthony Smith, Office of Information Management, telephone 202-475-3532, or fax 202-372-8405, for questions on these documents. Contact Ms. Cheryl Collins, Program Manager, Docket Operations, 202-366-9826, for questions on the docket.

SUPPLEMENTARY INFORMATION:

Public Participation and Request for Comments

This Notice relies on the authority of the Paperwork Reduction Act of 1995; 44 U.S.C. Chapter 35, as amended. An ICR is an application to OIRA seeking the approval, extension, or renewal of a Coast Guard collection of information (Collection). The ICR contains information describing the Collection's purpose, the Collection's likely burden on the affected public, an explanation of the necessity of the Collection, and other important information describing the Collection.

The Coast Guard invites comments on whether this ICR should be granted based on the Collection being necessary for the proper performance of Departmental functions. In particular, the Coast Guard would appreciate comments addressing: (1) The practical utility of the Collection; (2) The accuracy of the estimated burden of the Collection; (3) Ways to enhance the quality, utility, and clarity of information subject to the Collection; and (4) Ways to minimize the burden of the Collections on respondents, including the use of automated collection techniques or other forms of information technology.

We will consider all comments and material received during the comment period. This notice requesting comments and the ICR are related to and referenced in the final rule for the Regulated Navigation Area (RNA); Gulf Intracoastal Waterway (GIWW), Inner Harbor Navigation Canal (IHNC), New Orleans, LA. The information collected allows the Coast Guard to ensure that pre-planned deviations from the RNA, as afforded by the regulation, are done so safely and securely. The Coast Guard published the final rulemaking to enable vessels, facility owners and operators sufficient time to prepare and if desired, pre-plan safe and secure deviation from RNA requirements in time for the 2014 Hurricane Season.

We encourage you to respond to this request by submitting comments and related materials. Comments must contain the OMB Control Number of the ICR, [OMB control no. 1625-0043], and the docket number of this request, [USCG-2009-0139], and must be received by June 16, 2014. We will post all comments received, without change, to http://www.regulations.gov. They will include any personal information you provide. We have an agreement with DOT to use their DMF. Please see the “Privacy Act” paragraph below.

Submitting Comments

If you submit a comment, please include the docket number, [USCG-2009-0139], indicate the specific section of the document to which each comment applies, providing a reason for each comment. You may submit your comments and material online (via http://www.regulations.gov), by fax, mail, or hand delivery, but please use only one of these means. If you submit a comment online via www.regulations.gov, it will be considered received by the Coast Guard when you successfully transmit the comment. If you fax, hand deliver, or mail your comment, it will be considered as having been received by the Coast Guard when it is received at the DMF. We recommend you include your name, mailing address, an email address, or other contact information in the body of your document so that we can contact you if we have questions regarding your submission. Please note that all comments will be posted to the online docket without change and that any personal information you include can be searchable online. Please see the “Privacy Act” paragraph below (see also the Federal Register Privacy Act notice regarding our public dockets, 73 FR 3316, Jan. 17, 2008).

You may submit your comments and material by electronic means, mail, fax, or delivery to the DMF as indicated under ADDRESSES; but please submit them by only one means. To submit your comment online, go to http://www.regulations.gov, and type “USCG-2014-0094” in the “Search” box. If you submit your comments by mail or hand delivery, submit them in an unbound format, no larger than 8½ by 11 inches, suitable for copying and electronic filing. If you submit comments by mail and would like to know that they reached the Facility, please enclose a stamped, self-addressed postcard or envelope. We will consider all comments and material received during the comment period and will address them accordingly.

Viewing Comments and Documents

To view comments, as well as documents mentioned in this Notice as being available in the docket, go to http://www.regulations.gov, click on the “read comments” box, which will then become highlighted in blue. In the “Search” box insert “USCG-2009-0139” and click “Search.” Click the “Open Docket Folder” in the “Actions” column. You may also visit the DMF in Room W12-140 on the ground floor of the DOT West Building, 1200 New Jersey Avenue SE., Washington, DC 20590, between 9 a.m. and 5 p.m., Monday through Friday, except Federal holidays.

Privacy Act

Anyone can search the electronic form of comments received in dockets by the name of the individual submitting the comment (or signing the comment, if submitted on behalf of an association, business, labor union, etc.). You may review a Privacy Act statement regarding Coast Guard public dockets in the January 17, 2008, issue of the Federal Register (73 FR 3316).

Information Collection Request

Title: Approval of Pre-planned Deviation from the Regulated Navigation Area (RNA); Gulf Intracoastal Waterway (GIWW), Inner Harbor Navigation Canal (IHNC), New Orleans, LA. The final rule for this RNA published on April 17, 2014 at 79 FR [INSERT FR PAGE NUMBER FOR FINAL RULE] under the same docket number, USCG-2009-0139.

OMB Control Number: 1625-0043.

SUMMARY: The Hurricane Operations Plans submitted to the Coast Guard provides information supporting the choice to deviate from RNA restrictions and remain within certain RNA areas during enforcement. These plans will include: Total number of remaining vessels and description, name, IMO number, etc. of each vessel; diagram of the facility; mooring arrangement details and certification; contact information for POC at facility; and insurance disclosures. Storm Specific Verification Reports as detailed under the established Sector New Orleans Maritime Hurricane Contingency Port Plan at http://homeport.uscg.mil/nola will also be collected.

Need: Approval of the Hurricane Operations Plans by the Coast Guard ensures that facilities and vessels that choose to deviate from the RNA restrictions during enforcement and remain within certain areas of the RNA are able to do so safely and securely without presenting a threat to the flood protection system and possibly causing a breech leading to flooding in the Greater New Orleans area.

Use: The Coast Guard will evaluate the information to confirm that the facilities and vessels have a plan in place that meets requirements to remain safely and securely within the RNA.

Description of the Respondents: Waterfront facility and vessel owners and operators operating within the RNA.

Number of Respondents: 15.

Frequency of Response: Once in full and then annually to provide updated information based on changes in facility and vessel operations.

Burden of Response: Under 5 CFR 1320.3(b)(2), the time, effort, and financial resources necessary to comply with the information required to deviate under this rule is excluded because it will be incurred in the normal course of business and activities. The vessel information, recordkeeping, insurance disclosure, mooring plans and certifications, and emergency contact information required to deviate from the RNA are not only usual and customary, but commonly required under self-imposed operating plans, insurance requirements, or facility requirements. Therefore, the information required is already maintained by the facilities and vessels as part of their day-to-day operations. Additionally, the Coast Guard received no comments indicating that this information presents a burden to the facilities and vessels and expects to receive no adverse comment to revising the existing OMB control no. 1625-0043 to include this rule.

Estimate of Total Annual Burden: The estimated burden involved in providing the information required for deviation is 180 hours (12 hours per responding facility/vessel owner). However, under 5 CFR 1320.3(b)(2), the time, effort, and financial resources necessary to comply with the information required to deviate under this rule is excluded because it will be incurred in the normal course of business and activities. Therefore, the estimated burden for OMB control number 1625-0043 is expected to remain unchanged.

Authority: The Paperwork Reduction Act of 1995; 44 U.S.C. Chapter 35, as amended.

Dated: April 1, 2014.
K. S. Cook,
Rear Admiral, U.S. Coast Guard, Commander, Eighth Coast Guard District.

[FR Doc. 2014-08256 Filed 4-16-14; 8:45 am]

BILLING CODE 9110-04-P